DEPARTMENT OF COMMERCE

International Trade Administration

[A-570-943]

Certain Oil Country Tubular Goods From the People's Republic of China: Rescission of Antidumping Duty Administrative Review; 2012-2013

AGENCY: Enforcement and Compliance, formerly Import Administration, International Trade Administration, Department of Commerce.

SUMMARY: The Department of Commerce (Department) is rescinding the administrative review of the antidumping duty order on certain oil country tubular goods (OCTG) from the People's Republic of China (PRC) for the period May 1, 2012, through April 30, 2013, based on the timely withdrawal of the review request by United States Steel Corporation (Petitioner). No other interested party requested the instant review.

DATES: Effective Date: December 9, 2013.

FOR FURTHER INFORMATION CONTACT: Dena Crossland or Angelica Mendoza, AD/CVD Operations, Office VI, Enforcement and Compliance, International Trade Administration, U.S. Department of Commerce, 14th Street and Constitution Avenue NW., Washington DC 20230; telephone: (202) 482-3362 or (202) 482-3019, respectively.

SUPPLEMENTARY INFORMATION:

Background

On May 1, 2013, the Department published a notice of opportunity to request an administrative review of the antidumping duty order on OCTG from the PRC.¹ The period of review (POR) is May 1, 2012, through April 30, 2013. On May 31, 2013, the Department received a timely request from Petitioner to conduct an administrative review of 529 PRC companies in accordance with 19 CFR 351.213(b).² There were no other requests for an administrative review by any other party. Pursuant to Petitioner's request, on June 28, 2013, in accordance with section 751(a) of the Tariff Act of 1930, as amended (the Act), the Department initiated an administrative review of the antidumping duty order on OCTG from the PRC for the 2012-2013 POR.³ On August 9, 2013, Petitioner timely withdrew its request for review for all 529 PRC companies for which it had made a review request.

¹ See Antidumping or Countervailing Duty Order, Finding, or Suspended Investigation; Opportunity to Request Administrative Review, 78 FR 25423 (May 1, 2013).

² See Petitioner's submission entitled, “Oil Country Tubular Goods from the People's Republic of China: Administrative Review Request,” dated May 31, 2013.

³ See Initiation of Antidumping and Countervailing Duty Administrative Reviews and Request for Revocation in Part, 78 FR 38924 (June 28, 2013).

Rescission of Administrative Review

Pursuant to 19 CFR 351.213(d)(1), the Secretary will rescind an administrative review, in whole or in part, if the party that requested the review withdraws the request within 90 days of the date of publication of the notice of initiation of the requested review. In this case, Petitioner timely withdrew its request for a review, and no other interested party requested a review.⁴ Therefore, the Department is rescinding the administrative review of the antidumping duty order on OCTG from the PRC covering the period May 1, 2012, through April 30, 2013, in accordance with 19 CFR 351.213(d)(1).

⁴ See the Appendix attached to this notice for a complete list of the companies for which Petitioner requested a review.

Assessment

The Department will instruct U.S. Customs and Border Protection (CBP) to assess antidumping duties on all appropriate entries of OCTG from the PRC during the POR at rates equal to the cash deposit or bonding rate of estimated antidumping duties required at the time of entry, or withdrawal from warehouse, for consumption, in accordance with 19 CFR 351.212(c)(1)(i). The Department intends to issue appropriate assessment instructions to CBP 15 days after the publication of this notice in the Federal Register.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice also serves as a reminder to parties subject to administrative protective order (APO) of their responsibility concerning the disposition of proprietary information disclosed under APO, in accordance with 19 CFR 351.305 and as explained in the APO itself. Timely written notification of the return or destruction of APO materials or conversion to judicial protective order is hereby requested. Failure to comply with the regulations and the terms of an APO is a sanctionable violation.

This notice is issued and published in accordance with section 777(i)(1) of the Act and 19 CFR 351.213(d)(4).

Dated: December 2, 2013.
Christian Marsh,
Deputy Assistant Secretary for Antidumping and Countervailing Duty Operations.

Appendix

1. 1st Huabei OCTG Machinery Co., Ltd.

2. Adler Steel Limited

3. Adler Steel Limited Tianjin China c/o Adler Steel Limited

4. Angang New Steel Co. Ltd.

5. Angang Steel Co., Ltd.

6. Anhui Tianda Oil Pipe Co. Ltd. and Anhui Tianda Enterprise (Group) Co. Ltd.

7. Anshan Xin Yin Hong Petroleum and Gas Tubular Co.

8. Anshan Zhongyou TIPO Pipe & Tubing Co., Ltd.

9. Anton Oilfield Services (Group) Ltd.

10. Anton Tongao Technology Industry Co. Ltd.

11. Anyang Iron & Steel Group Ltd.—Seamless

12. Aofei Tele Dongying Import & Export Co., Ltd.

13. Baoji Petroleum Steel Pipe and Tube Works

14. Baoji-Sumitomo Metal Industries (SMI) Petroleum Steel Pipe, Co. Ltd. (BSG)

15. Baolai Steel Pipe and Tianjin Baolai International Trade Co., Ltd.

16. Baoshan Iron & Steel Co. Ltd. Precision Steel Tube Factory

17. Baoshan Iron & Steel Co. Ltd. Shanghai Baosteel Group Corporation and Steel Tubing Plant of Baosteel Branch

18. Baosteel America Inc.

19. Baosteel Group Shanghai Steel Tube

20. Baosteel International (Shanghai Baosteel International Economic & Trading Co., Ltd.)

21. Baotou Found Petroleum Machinery Co. Ltd.

22. Baotou Iron & Steel (Group) Co., Ltd.

23. Bazhou Hongyuan Petroleum Equipment Materials Co., Ltd.

24. Bazhou Seamless Oil Pipe Co., Ltd.

25. Bazhou Zhuofa Steel Pipe Co., Ltd.

26. Beijing Bell Plumbing Manufacturing Ltd.

27. Beijing Changxing Kaida Composite Material Development Co., Ltd.

28. Beijing Jinghua Global Trading Co., Ltd.

29. Beijing Shouhang Science-Technology Development Company

30. Beijing Youlu Co., Ltd.

31. Beijing Zhongyou TIPO Material & Equipment Co., Ltd.

32. Beiman Special Steel Co., Ltd.

33. Benxi Northern Steel Pipes Co., Ltd.

34. Bohai Equipment New Century Machinery Manufacturing Co., Ltd.

35. Cangzhou City Baohai Petroleum Material Co., Ltd.

36. Cangzhou City Shengdali Machinery Manufacture Co., Ltd.

37. Cangzhou OCTG Company Limited of Huabei Oilfield

38. Cangzhou Qiancheng Steel Pipe Co., Ltd.

39. Cangzhou Ruitai Petroleum Machinery Co., Ltd.

40. Cangzhou Xinxing Seamless Steel Pipe Co., Ltd.

41. Changshu Chengfeng Machinery Manufacturing Co., Ltd.

42. Changshu Lijia Import and Export Co.

43. Changshu Seamless Steel Tube Co., Ltd.

44. Changzhou Bao-Steel Tube Limited-Liability Co.

45. Changzhou Darun Steel Tube Co., Ltd.

46. Changzhou Haitong Petroleum Tube Co., Ltd.

47. Changzhou Heji Engineering Machinery Co., Ltd.

48. Changzhou Heyuan Steel Pipe Company

49. Changzhou Hong Ping Material Supply Co., Ltd.

50. Changzhou Huixiang Petroleum Machinery Co., Ltd.

51. Changzhou Jianzhou Machinery Co., Ltd.

52. Changzhou Shengde Seamless Pipe Co., Ltd.

53. Changzhou Steel Pipe Factory

54. ChangZhou TaoBang Petroleum Tube Co., Ltd.

55. Changzhou Tianda Petroleum Pipe Co., Ltd.

56. Changzhou Tong Xing Steel Tube Co., Ltd.

57. Changzhou Tongchuang Tube Industry Co., Ltd.

58. Changzhou Wujin Furong Aluminum Alloy Profile Factory

59. Changzhou Yuanyang Steel Tube Co., Ltd.

60. Chengde Longcheng Steel Pipe Manufacturing Co., Ltd.

61. Chengdu Heyi Steel Tube Industrial Co., Ltd.

62. Chengdu Wanghui Petroleum Pipe Co. Ltd.

63. Chengdu Zhongyuan Zongji Petroluem Equipment Co., Ltd. (Different/misspelled in both)

64. China East Resources Import & Export Co., Ltd.

65. China Hebei Xinyuantai Steel Pipe Co.

66. China Oilfield Services Limited

67. Chongqing Petroleum Special Pipeline Factory of CNPC Sichuan Petroleum Goods & Material Supply Corp.

68. Chu Kong Steel Pipe Group Co

69. Chuanna Machinery Manufacturing Plant

70. Cloudstone Metal International Limited

71. CNOOC Energy Technology & Services—Pipe Engineering Co.

72. CNOOC Kingland Pipeline Co., Ltd.

73. CNPC Chuanqing Drilling Engineering Co., Ltd./changqing Downhold Technology Operation Co.

74. CNPC Chuanqing Drilling Engineering Co., Ltd./Changqing General Drilling Company

75. CNPC GWDC Drilling Tools Company

76. CORPAC Steel Products, Corp.

77. Da An Heng Rui Production Enquipment Co., Ltd.

78. Da Qing Jing Tai mechancial Manufacturing Co., Ltd.

79. Da'an Petroleum Accessories Factory

80. DADI Petroleum Machinery Co., Ltd. Of Inner Mongolia First Machinery Group Co., Ltd.

81. Dagang Oilfield Group New Century Machinery Manufacturing Co., Ltd.

82. Dalipal Pipe Company

83. Daqing High-Tech Zone Hua Rui Ke Pipe Manufacturing Co.

84. DaQing Ocean Petroleum Technology Development Co., Ltd.

85. Daqing Petroleum Equipment Group

86. Daqing Powerlift Petro-Equipment Group

87. Daqing Seamless Oil Pipe Co., Ltd.

88. Daqing Wanke Oilfield Equipment Manufacturing Co., Ltd.

89. Daquing Powerlift Petro-Equipment Group (Different in letter)

90. Daye Xinye Special Steel Company Limited

91. De Zhou Guang Hua Petroleum Machinery Company Limited

92. De Zhou United Petroleum Machinery Company Limited

93. De Zhou Zhong Xing Petroleum Machinery Co., Ltd.

94. Dexin Steel Tube (China) Co., Ltd.

95. Dezhou Great Wall Petroleum Machinery Co., Ltd.

96. Dezhou Horizon Oil Tools Co., Ltd.

97. Dezhou Longke Petroleum Equipment Co., Ltd.

98. Dingbian County Huayou Trading Company Limited

99. Dong Ying East Petroleum Pipe Co., Ltd.

100. Dongying City Jinyilai Petroleum Machinery Co., Ltd.

101. Dongying City Meiyang Petroleum Pipe & Fittings Co., Ltd.

102. Dongying City Paipu Petroleum Pipe Fitting Co., Ltd.

103. Dongying City YongLiJingGong Petroleum Machinery Manufacturing Co., Ltd.

104. Dongying Heli Petroleum Machinery Company Limited

105. Dongying Rui'ao Industrial Trading Co., Ltd.

106. Dongying Tianlin Petroleum Equipment Co., Ltd.

107. Dongying Tianrui Petroleum Science & Technology Co., Ltd.

108. DP-Master Manufacturing Co., Ltd.

109. DRK Oil Tools, Co., Ltd.

110. Engineering Service Company of Great Wall Drilling Engineering Ltd. Of China Petroleum Group

111. Etco (China) International Trading Co., Ltd.

112. Faray Petroleum Steel Pipe Co., Ltd.

113. Field Construction Bohai Equipment Services

114. First Machinery Works of North China Petroleum

115. Freet Petroleum Equipment Co. Ltd. of Shengli Oil Field The Thermal Recovery, Zibo Branch

116. Gaoyou Huaxing Petroleum Pipe Manufacturing Co., Ltd.

117. Ge Steel Resource Ltd.

118. General Machinery Factory of Jilin Petroleum Group Co., Ltd.

119. General Machinery Plant of Shengli Petroleum Administration (Shengli Oil Field Shengli Petroleum Equipment Co., Ltd.)

120. Guangzhou Hongda Steel Tube

121. Guangzhou Iron and Steel

122. Guanzhou Junjia Steel Tube Manufacturer Co., Ltd.

123. Guanzhou Juyi Steel Pipes Company Limited

124. Guanzheng Branch of Tangshan Jidong Petroleum Machinery Company, Ltd.

125. Haerbin City Weilian Mechanical Manufacturing Company Limited

126. Haicheng Northern Steel Pipe Anti-Corrosion Company Limited Haicheng Northern Steel Pipe Co. and Haicheng Beigang Pipe Group

127. Handan Precise Seamless Steel Pipes Co., Ltd.

128. Hangzhou Cogeneration Import & Export Company Limited

129. Hangzhou Zhedong Steel Tube Products Co., Ltd.

130. Hao Ying Qiqihaer in Northeast Special Steel Co., Ltd.

131. Hebei ChangFeng Steel Tube Manufacture Group

132. Hebei Dingsheng Pipe Industry Co., Ltd.

133. Hebei Hongling Seamless Steel Pipes Manufacturing Co., Ltd

134. Hebei Huike Steel Pipe Co., Ltd.

135. Hebei Litonglian Seamless Steel Pipe

136. Hebei Machinery Import and Export Co., Ltd.

137. Hebei Puyang Iron and Steel Company Limited

138. Hebei Tiandixing Pipeline Co., Ltd.

139. Hebei Xinlian Petroleum Machinery Company Limited

140. Hebei Xinyuantai Steel Pipe Co., Ltd.

141. Hebei Yaosheng Petroleum Special Pipe Co., Ltd.

142. Hebei Yi Xin Petroleum Pipe Company Limited

143. Hebei Zewo Steel Pipe Manufacturing Co., Ltd.

144. Hebei Zhong Kuang Steel Pipe Manufacturing Co., Ltd.

145. Hebei Zhongyuan Steel Pipe Manufacturing Co., Ltd. and Zhongyuan Pipeline Manufacturing Co. Ltd.

146. Hefei Ziking Steel Pipe Inc.

147. Heilongjiang Jianlong Iron and Steel Co., Ltd.

148. Heilongjiang North Shuangjia Drilling Tools Co., Ltd.

149. Henan Dongfanlong Machine Manufacture Co., Ltd.

150. Henan Huifeng Pipe Industry Co., Ltd.

151. Henan Nanyang Oilfield Machinery Manufacturing Company Limited

152. Henan Province LiDa Petroleum Pipe Drilling Tools Co., Ltd.

153. Henan Zyzj Petroleum Equipment Co., Ltd.

154. Hengshui Jinghua Steel Pipe Co., Ltd.

155. Hengshui Weijia Petroleum Equipment Manufacture Co., Ltd.

156. Hengyang Hongda Special Steel Tube Co., Ltd.

157. Hengyang Steel Tube (Group) Co., Ltd.

158. Hengyang Valin Steel Tube Co. Ltd. and Hengyang Valin MPM Tube Co., Ltd.

159. HG Tubulars Limited

160. Highgrade Tubular Manufacturing (Tianjin) Co., Ltd.

161. HillHead

162. Hilong Tubular Goods Co., Ltd.

163. HSC (Chengdu) Seamless Steel Pipe Co., Ltd.

164. Hsea Steel Trading Co., Ltd.

165. Huai'an Zhenda Steel Tube Manufacturing Co., Ltd.

166. Hubei OCTG Machinery Co. (First)

167. Hubei Xinyegang Co., Ltd.

168. Hubei Xinyegang Special Tube Co., Ltd.

169. Hubei Zhongshi Special Steel Tubes Co., Ltd.

170. Huizhou Dingjia Trade Co., Ltd.

171. Huludao City Steel Pipe Industrial Co.

172. Huludao Steel Pipe Industrial Co., Ltd.

173. Hunting Energy Services (Wuxi) Co., Ltd.

174. Jiangsu Benqiu Pipe Products Co.

175. Jiangsu Changbao Steel Tube Co., Ltd. and Jiangsu Changbao Precision Tube Co. Ltd.

176. Jiangsu Chengde Steel Tube Share Co., Ltd.

177. Jiangsu Dingxing Petroleum Machinery Co., Ltd.

178. Jiangsu Fanli Steel Pipe Co.

179. Jiangsu Huacheng Industry Group Co., Ltd.

180. Jiangsu Huashun Steel Pipe Co., Ltd.

181. Jiangsu Kailai Steel Tube Co., Ltd.

182. Jiangsu Li'Ao Steel Tube Company Limited

183. Jiangsu Rontech Petroleum Technology Incorporated Company

184. Jiangsu Shined Petroleum Equipment Manufacturing Company Limited

185. Jiangsu Shuguang Oil Tools Limited

186. Jiangsu Sujia Group Co., Ltd.

187. Jiangsu Tenglong Petrochemical Machinery Co., Ltd.

188. Jiangsu Tianyuan Steel Tube Co., Ltd.

189. Jiangsu Valin-Xigang Special Steel Co., Ltd.

190. Jiangsu Wuxi Steel Group

191. Jiangsu Yulong Steel Pipe Co., Ltd.

192. Jiangsu ZhenDa Steel Tube Group Co., Ltd.

193. Jiangsu Zhongye Energy Equipment Manufacture Co., Ltd.

194. Jiangyin Changjiang Oil Special Pipe Manufacture Co., Ltd.

195. Jiangyin Chuangxin Oil Pipe

196. Jiangyin City Changjiang Steel Pipe Co., Ltd.

197. Jiangyin City Seamless Steel Tube Factory

198. Jiangyin Hengyang Petroleum Machinery Company Limited

199. Jiangyin Jieda Shaped Tube Co., Ltd.

200. Jiangyin Jieshun Metal Science & Technology Co., Ltd.

201. Jiangyin Long-Bright Drill Pipe Manufacture Co., Ltd.

202. Jiangyin Yashen Petroleum Pipe Co., Ltd.

203. Jiangyin Yueyue Chao Steel Pipe Manufacture Co., Ltd.

204. Jiangyin Yuhao Petroleum Pipe Co., Ltd.

205. Jianhu Lichange Valve Co., Ltd.

206. Jilin Baotong Petroleum Steel Pipe Company Limited

207. Jilin Qianyuan Steel Pipe Co., Ltd.

208. Jilin Sky Loong Industry Co., Ltd.

209. Jinan Iron and Steel Company Jigang Group Co., Ltd.

210. Jinxi Industry Group Co., Ltd.

211. Jinxi Steel Pipe Co., Ltd. of Lingyuan Iron and Steel Group

212. Jinxi Steel Pipe Xinjiang Co., Ltd.

213. Jiuquan Iron and Steel Group (JISCO)

214. Julong Steel Pipe Co., Ltd.

215. Laiwu Iron and Steel Corporation

216. Langfang OTSMAN Special Petroleum Pipe Manufacture Company Limited

217. Liangshan Steel Pipe Company Limited

218. Liaoche Thermal Recovery Machinery Branch of CNPC Bohai Equipment Manufacturing Co., Ltd.

219. Liaocheng Jialong Tube Manufacture Company Limited

220. Liaocheng Jingxin Seamless Steel Pipe Manufacturing Co., Ltd.

221. Liaocheng Xinpengyuan Metal Manufacture Co., Ltd.

222. Liaoning Dongyu Oil Tubular Goods Company, Ltd.

223. Liaoning Foo May Oilfield Services Co., Ltd.

224. Liaoning Large-scale Steel Pipe Co., Ltd.

225. Liaoning Northern Steel Pipe Co., Ltd.

226. Liaoning ShenYu Oil Pipe Manufacture Company Limited

227. Liaoyang Seamless Oil Pipe Co., Ltd.

228. Linggang Beipiao Steel Pipe Co., Ltd.

229. Lingyuan Iron & Steel Company Limited

230. Linyi Jinzhengyang Seamless Steel Pipe Co., Ltd.

231. Linyi Sanyuan Steel Pipe Industry Company Limited

232. Linyi Yinlong Steel Tube Co., Ltd.

233. Linzhou Fengbao Pipe Industry Co., Ltd.

234. Liuzhou Iron and Steel

235. M&M Steel Pipe Co., Ltd.

236. Machinery Factory of Jilin Petroleum Group Co., Ltd.

237. Machinery Factory of Tuha Petroleum

238. MCC Liaoning Dragon Pipe Industries Company Limited

239. Mechanical Factory of CNPC Qinghai Oilfield Company

240. Meihekou City Hongye Seamless Steel Pipe Co., Ltd.

241. Mercadex B.V.

242. MSP/Drilex, Inc.

243. Nantong Hengte Tube Co., Ltd.

244. Nantong Petroleum Machine Manufacturing Co., Ltd.

245. Nantong Yongda Pipe Industry Incorporated Company

246. Nengyang Hongling Petroleum Pipe Co., Ltd.

247. NHIC Antonoil Machinery Manufacturing Co., Ltd.

248. Ning Xia D.M.S. OCTG Company Limited

249. Ningbo Hengfa Steel Tube Co., Ltd.

250. Ningxia Daimus Petroleum Steel Pipe Co., Ltd., Tianjin Branch

251. Norms-ShenZhen HaiYou Mechanical Equipment Company

252. North China Petroleum Steel Pipe Co., Ltd.

253. North China Petroleum Steel Pipe Co., Ltd. Yangzhou Subsidiary Company

254. Oilfield Services & Supplies (Tianjin) Co., Ltd.

255. Pancheng Yihong Pipe Company Limited

256. Pangang Group Beihai Steel Pipe Corporation (PGBH)

257. Pangang Group Chengdu Iron & Steel Co., Ltd.

258. Pangang Group Chengdu Steel & Vanadium Co., Ltd.

259. Panjin ChangTai Petroleum Tubular Co., Ltd.

260. Panjin Liaohe Oilfield Jinhuan Company Corporation Ltd.

261. Panjin Renhe Pipe Co., Ltd.

262. Panjin Xinhua Drilling Machinery Manufacture Co., Ltd.

263. Panshi City Great Wall Mechanical Factory

264. Panyu Chu Kong Steel Pipe Co., Ltd.

265. Petroleum Machinery Factory of Bohai Petroleum Manufacturing Co., Ltd.

266. PetroMaterials (Cangzhou) Co., Ltd.

267. Pipe and Tooling Center, Sinopec Southwest Company

268. Pipe & Tools of No.2 Drilling Technical Company of Da Qing CN

269. Precision Pipe Manufacturing Branch of Liaoning Tianyi Industry Company

270. PuYang BaoLiTong Petroleum Machinery Co., Ltd.

271. Puyang City Huang Jin-Driliing Parts Processing Co., Ltd.

272. Puyang City Shuangfa Industry

273. Puyang Heli Drilling Machinery Processing Co., Ltd.

274. Puyang Xinyu Petro-chemical Machinery Co., Ltd.

275. Puyang Zhongshi Group Co., Ltd.

276. Qingdao Kehua Petroleum Machinery Co., Ltd.

277. Qiqihaer Haoying Iron & Steel Co of Northeast Special Steel Group

278. Rizhao Steel Holding Group Co., Ltd.

279. RiZhao ZhongShun Steel Pipe Manufacture Company Limited

280. RongSheng Machinery Manufacture Ltd.

281. Seamless Tube Mill of Baotou Steel Union

282. Shaanxi Jiabao Petroleum Machine Manufacture Co., Ltd.

283. Shaanxi Qindong Tubular Goods Manufacturing Co., Ltd.

284. Shaanxi Yanchang Petroleum Equipment Manufacturing Co., Ltd.

285. Shaanxi Yangchang Petroleum Material Company

286. Shandong Continental Petroleum Equipment Co., Ltd.

287. Shandong Dongbao Steel Pipe Co., Ltd.

288. Shandong Dongying Liyuan Pipe Industry Group Co., Ltd.

289. Shandong East China Petroleum Pipes & Drilling Tools Co., Ltd.

290. Shandong East Oil Petroleum Equipment Co., Ltd.

291. Shandong Huabao Steel Pipe Co., Ltd.

292. Shandong Huitong Steel Tube Making Co., Ltd.

293. Shandong Jialong Petroleum Pipe Manufacture Co., Ltd.

294. Shandong Liaocheng Baotong Steel Tube Manufacture Co., Ltd.

295. Shandong Liaocheng Shenhao Metal Product Co., Ltd.

296. Shandong Liaocheng ZGL Metal Manufacturing Co., Ltd.

297. Shandong Luhai Petroleum Equipment Co., Ltd.

298. Shandong Luxing Steel Pipe Co., Ltd.

299. Shandong Mingzhu Petroleum Equipment Co., Ltd.

300. Shandong Molong Petroleum Machinery Co., Ltd.

301. Shandong Nine-Ring Petroleum Machinery Co., Ltd.

302. Shandong Province Coalfield Geologic Drilling Tools Factory

303. Shandong Province Jin Shun Steel Product Limited Company

304. Shandong Runhe Tube Industry Co., Ltd.

305. Shandong Shengdong Oilfield Machinery Co., Ltd.

306. Shandong Shengli Tongxing Petroleum Pipe Manufacture Co., Ltd.

307. Shandong Shengyou Oil Drilling & Production Machinery Limited Company

308. Shandong Shouguang JuNeng Special Steel Co., Ltd.

309. Shandong Taifeng Steel Industry Co., Ltd.

310. Shandong Xinchi Steel Pipe Manufacture Co., Ltd.

311. Shandong Xinji Yiming Machinery Co., Ltd.

312. Shandong Zhao Yu Petroleum Pipe Manufacture Co., Ltd.

313. Shandong Zhongli Steel Pipe Co., Ltd.

314. Shandong Zhongye Petroleum Machinery Co., Ltd

315. ShanDong ZhongZheng Steel Pipe Manufacturing Co., Ltd.

316. Shanghai Baochen Oil Pipeline Materials Company Limited

317. Shanghai Baodi Petroleum Pipe Development Co., Ltd.

318. Shanghai Baofu Steel Pipe Co., Ltd.

319. Shanghai Baoshun Steel Tube Co., Ltd.

320. Shanghai Baoyan Special Steel Pipe Co., Ltd.

321. Shanghai Baoyi Industrial Company

322. Shanghai Fanzhenglong Steel Tube Co., Ltd.

323. Shanghai Hilong Drill Pipe Co., Ltd.

324. Shanghai Hongshun Tube Manufacturing Co., Ltd.

325. Shanghai Kangxin Oil Pipe Manufacturing Co., Ltd.

326. Shanghai Metals & Minerals Import & Export Corporation

327. Shanghai Mingsheng Industrial Co., Ltd.

328. Shanghai STARSE Petroleum Equipment Co., Ltd.

329. Shanghai Tianhe Oil Engineering Co., Ltd.

330. Shanghai W.M Threading Co., Ltd.

331. Shanghai Yuanxin Tube Co., Ltd.

332. Shanghai Yueyuechao Manufacture Tube Co., Ltd.

333. Shanghai Yuezhou Steel Co., Ltd.

334. Shanghai Zhongyou TIPO Steel Pipe Co., Ltd.

335. Shanxi Dehui Seamless Steel Pipe Co., Ltd.

336. Shanxi Guolian Pipe Industry Group Co., Ltd.

337. Shanxi Hongli Steel Tube Share Company Limited

338. Shanxi Taigang Stainless Steel Tubes & Pipes Co. Ltd.

339. Shanxi Yida Petroleum Manufacture Co., Ltd.

340. Shanxi Yuci Guolian Steel Pipe Co., Ltd.

341. Shelfoil Petroleum Equipment & Services Co., Ltd.

342. Shengil Fanland Petroleum Equipment Co., Ltd.

343. Shengil Oil Field Shengli Power Machinery Group Co., Ltd.

344. Shengil General Engineering (The Thermal Recovery Equipment Manufactory of Shengli General Engineering)

345. Shengli Oil Field Freet Petroleum Steel Pipe Co., Ltd.

346. Shengli Oil Field Highland Petroleum Equipment Co., Ltd.

347. Shengli Oil Field TianFeng Science, Industry & Trade Steel Structure Co., Ltd.

348. Shengli Oil Field Whuhua Industry Development Co., Ltd.

349. Shengli Oilfield Shengji Petroleum Equipment Co., Ltd.

350. Shengli Petroleum Administration General Machinery Plant

351. Shengli Petroleum Equipment Co., Ltd.

352. Shenyang Dongming Seamless Steel Tube Co., Ltd.

353. Shenyang Special Type Seamless Steel Tube Co., Ltd.

354. Shenzhen Renjunfeng Enterprise Co., Ltd.

355. Shenzhen Weisheng I.T.S. Petroleum Tubular & Equipment Co., Ltd.

356. Siano (Beijing) Steel Co., Ltd.

357. Sichuan ChangCheng Steel Tube Co., Ltd.

358. Sichuan ChengJiWeiYe Steel Pipe Co., Ltd.

359. Sichuan Huagong Petroleum Steel Pipe Co., Ltd.

360. Sichuan Jingshi Engineering Technology Co., Ltd.

361. Songyuan Daduo Oilfield Accessory Industry Co., Ltd.

362. Songyuan Seamless Oil Pipe Co., Ltd.

363. SPAT Steel International (H.K.) Limited

364. Steel Pipe Plant Of Wisco Wuhan Jiangbei Iron And Steel Co., Ltd.

365. Steel Pipe Works of North China Petroleum

366. Steelforce Far East Ltd.

367. Stiletto (HK) Limited

368. Suns Steel International (Group) Co., Ltd., Shanghai Suns Steel International Trading Ltd., and Shanghai Suns Steel International Ltd.

369. Suzhou Baoxin Seamless Steel Tube

370. Suzhou Friend Tubing and Casing Pipe Co., Ltd.

371. Suzhou Rainbow Huading Chimney Manufacturing

372. Suzhou Seamless Steel Tube Works and Suzhou Shuangjin Group Corporation

373. Suzhou Sino Import and Export Co., Ltd.

374. Tai'an Jiecheng Equipment Installation Co., Ltd.

375. Taicang Xinbaoyi Steel Pipe Manufacture Co., Ltd.

376. Taizhou Chengde Steel Tube Co., Ltd.

377. Taizhou Elite Drilling Pipe Co., Ltd.

378. Taizhou Shuangyang Precision Seamless Steel Tube Co., Ltd.

379. Tangshan Jointer Petroleum Pipe Manufacture Co., Ltd.

380. Tangshan Sanjin Mingsheng Industry Development Co., Ltd.

381. Tangshan Wenfeng Qiyuan Pipe Industry Co., Ltd.

382. The Freet Group

383. The Machinery Plant, Tuha Oilfield Company

384. Thermal Recovery Equipment Manufacturer of Shengli Oil Field Freet Petroleum Equipment Co., Ltd.

385. Tian Jin Costrength Petrol China Machinery Co., Ltd.

386. Tianhe Oil Group Hifeng Petroleum Equipment Co., Ltd.

387. Tianjin Amergy (Meineng) Fittings Co., Ltd.

388. Tianjin Bond Oil Steel Pipe Manufacturing Co., Ltd.

389. Tianjin Boyu Steel Pipe Co., Ltd.

390. Tianjin City Gang Xin Seamless Pipe Industry Company

391. Tianjin City Jinghai County Baolai Industrial and Trade Co.

392. Tianjin City Juncheng Seamless Tube Company Limited

393. Tianjin City Mingren Metallic Products Co., Ltd.

394. Tianjin City Tian Yi Seamless Steel Tube Company Limited

395. Tianjin Coupling Heat Treatment Company Limited

396. Tianjin Debang Petroleum Pipe Manufacturing Co., Ltd.

397. Tianjin DeHua Petroleum Equipment Manufacturing Company Limited

398. Tianjin Delisi Steel Tube Products Co., Ltd.

399. Tianjin Denuo Petroleum Tube Co., Ltd.

400. Tianjin Evergrand Oil Pipes Co., Ltd.

401. Tianjin Feng Yi Da General Machinery Company Limited

402. Tian-Jin Holly Land Pipe Co., Ltd.

403. Tianjin Hong Gang Yuan Oil Equipment Manufacturing Co., Ltd.

404. Tianjin Hua Xin Premium Connections Pipe Co., Ltd.

405. Tianjin Huilitong Steel Tube Co., Ltd.

406. Tianjin Jinggong Petroleum Pipe Fittings Co., Ltd.

407. Tianjin Jingtong Seamless Steel Pipe Co., Ltd.

408. Tianjin Jinyingda Plastic Product Co., Ltd.

409. Tianjin Jinyuan Machinery Manufacture Co., Ltd.

410. Tianjin Lida Steel Pipe Group Co., Ltd.

411. Tianjin Lifengyuanda Steel Group Co., Ltd.

412. Tianjin Liqiang Steel Pipe Co.

413. Tianjin Master Seamless Steel Pipe Co., Ltd.

414. Tianjin Minghai Petroleum Tubular Co., Ltd.

415. Tianjin Opka Oil Pipe Co., Ltd.

416. Tianjin Pipe Group Corporation

417. Tianjin Pipe Industry Development Company

418. Tianjin Pipe International Economic & Trading Corp.

419. Tianjin Rainbox Steel Pipe Product Corporation

420. Tianjin Ring-Top Petroleum Manufacture Co., Ltd.

421. Tianjin Seamless Steel Pipe Plant

422. Tianjin SERI Machinery Equipment Corporation Limited

423. Tianjin Shengcaiyuan Steel Trading Co., Ltd.

424. Tianjin Shenzhoutong Steel Pipe Co. Ltd.

425. Tianjin Shuangjie Pipe Manufacturing Co., Ltd.

426. Tianjin Tiangang Special Petroleum Pipe Manufacturer Co., Ltd.

427. Tianjin Tiansheng Petroleum Pipe Manufacturing Co., Ltd.

428. Tianjin Tianye Seamless Steel Pipe Plant Ltd.

429. Tianjin Top Connect Manufacturing Co., Ltd.

430. Tianjin TPCO & TISCO Welding Pipe Corporation

431. Tianjin Tubular Goods Machining Co., Ltd.

432. Tianjin United Steel Pipe Co (UNISTEEL)

433. Tianjin Walt Pipe Co., Ltd.

434. Tianjin Xingyuda Steel Pipe Co., Ltd.

435. Tianjin Zhongshun Industry Trade Co., Ltd.

436. TianJin ZhongShun Petroleum Steel Pipe Co., Ltd.

437. Tianjing Boyu Steel Tube Co., Ltd.

438. Tieling Yida Petroleum Machinery Manufacture Co., Ltd.

439. TLD International

440. Tonghua Iron & Steel Group Panshi Seamless Steel Tube Company Limited

441. TPCO Yuantong Pipe and Tube Corporation Limited

442. Tuha Petroleum Machinery

443. UNI Tube Ltd.

444. United Offshore Construction Co., Ltd. CONHW, Zhanjiang

445. Uno-steel (Jiangyin) Drilling Products Manufacturing Limited

446. Weifang East Pipe Industry Technical Co., Ltd.

447. Weifang Weierds Steel Pipe Co., Ltd.

448. Westcan Oilfield Supply Ltd.

449. WSP Holding Limited

450. Wuhan Seamless Oil Steel Tube Co., Ltd.

451. Wuhan Wugang Group Hanyang Steel Factory

452. Wuxi Baoda Petroleum Special Pipe Manufacture Co., Ltd.

453. Wuxi City DongQun Steel Tube Co.

454. Wuxi City Jianhong Metal Products Co., Ltd.

455. Wuxi DeRui Seamless Steel Pipe Co., Ltd.

456. Wuxi Dexin Steel Pipe Co., Ltd.

457. Wuxi Dingyuan Precision Cold-Drawn Steel Pipe Co.

458. Wuxi Eastsun Petroleum Tubular Manufacturing Co., Ltd.

459. Wuxi Endless Petro Geo-Equipment Co., Ltd.

460. Wuxi Erquan Special Steel

461. Wuxi Fanyong Liquid Presses Tube Company Limited

462. Wuxi Fastube Dingyuan Precision Steel Pipe Co., Ltd.

463. Wuxi Fastube Industry Co.

464. Wuxi Free Petroleum Tubulars Manufacture Co., Ltd.

465. Wuxi Gedemei Oil Machinery Equipment Manufacture Co., Ltd.

466. Wuxi Horizon Petroleum Special Pipe Manufacture Company Limited

467. Wuxi Huaxin Petroleum Machine Co., Ltd.

468. Wuxi Huayou Special Steel Co., Ltd.

469. Wuxi Huazin Petroleum Machine Company Limited

470. Wuxi Hui Long Wufeng Steel Tube Limited Company

471. Wuxi Jiangnan High Precision Pipe Co., Ltd.

472. Wuxi Jinding Oil Pipe Fittings Co., Ltd.

473. WuXi OuLong Special Steel Pipe Co., Ltd.

474. Wuxi Precese Special Steel Co., Ltd.

475. Wuxi Ruiyuan Special Steel Pipe Company Limited

476. Wuxi Runfeng Special Pipe Co., Ltd.

477. Wuxi Seamless Oil Pipe Co., Ltd.

478. Wuxi SP Steel Tube Manufacturing Co. Ltd.

479. Wuxi Special Steel Material Co., Ltd.

480. Wuxi Sunshine Textile Science and Technology Co., Ltd.

481. Wuxi Xijin Petroleum Equipment Fittings Manufacturing Co. Ltd.

482. Wuxi Xingya Seamless Steel Tube

483. Wuxi Zhen Dong Steel Pipe Works

484. Wuxi Zhenda Special Steel Tube Manufacturing Co., Ltd. and Wu Xi Zhen Da Special Steel Tube Manufacturing Co., Ltd.

485. X'ian Hangwei Petrochemical Equipment Co., Ltd.

486. Xi'an Changqing Tianhe Petroleum Machinery Co., Ltd.

487. Xigang Seamless Steel Tube Co., Ltd.

488. XiNing Special Steel Co., Ltd.

489. Xinjiang Petro Adminstration Bureau Machinery Manufacture General Company

490. Xinjiang Ster Petroleum Tubes and Pipes Manufacturing Co., Ltd.

491. Xinjiang Younaite Petroleum Steel Tube Co., Ltd.

492. Xinxiang Central Plain Petroleum and Chemical Machine Manufacturing Co., Ltd.

493. Xinxing Ductile Iron Pipes Co., Ltd.

494. Xinyuantai Steel Pipe Group Co., Ltd.

495. Xuzhou E&R Petroleum Equipment Co., Ltd.

496. Xuzhou Guanghuan Steel Tube (Group) Co., Ltd.

497. Xuzhou Guanghuan Steel Tube Co., Ltd.

498. Xuzhou Oilfield Equipment Co., Ltd.

499. Xuzhou Taifeng Oilwell Products Co., Ltd.

500. Yan'an JiaSheng Petroleum Machinery Co., Ltd.

501. Yan'an Shoushan Mechanical and Production Engineering Technology Co., Ltd.

502. Yancheng Steel Tube Co., Ltd.

503. Yancheng Teda Special Pipe Co., Ltd.

504. Yangxin Universal Electromechanical Equipment Co., Ltd.

505. Yangzhou BaoRuiDe Petroleum Machinery Co., Ltd.

506. Yangzhou Chengde Steel Tube Co., Ltd..

507. Yangzhou Chicheng Petroleum Machinery Co., Ltd.

508. Yangzhou Lontrin Steel Tube Co., Ltd.

509. Yangzhou Sinopetro Superbskill Machine Co., Ltd.

510. Yantai KIYOFO Seamless Steel Pipe Company Limited

511. Yantai Steel Pipe Co., Ltd. of Laiwu Iron & Steel Group

512. Yantai Yuanhua Steel Tubes Company Limited

513. Yieh Corporation

514. YingKou OuYang Metal Manufacturing Co., Ltd.

515. Zhangjiagang HengFeng Oil Pipe & Part Co., Ltd.

516. ZhangJiaGang ZhongYuan Pipe-Making Co.

517. Zhangjiakou Haite Steel Pipe Co., Ltd.

518. Zhangzhou Stronghold Steel Works Co., Ltd.

519. Zhejiang Guobang Steel Co., Ltd.

520. Zhejiang Jianli Co., Ltd.

521. Zhejiang JiuLi Hi-Tech Metals Co., Ltd.

522. Zhejiang Kingland Pipe Industry Co., Ltd.

523. Zhejiang Minghe Steel Pipe Co., Ltd.

524. Zhejiang Seamless Steel Tube Co., Ltd. and Zhejiang Gross Seamless Steel Tube Co. Ltd.

525. Zhongshi Special Steel Tubes Co., Ltd.

526. Zhongyuan Pipeline Manufacturing Co., Ltd.

527. Zibo Hongyang Petroleum Equipment Co., Ltd.

528. Zibo Pipe Manufacturing

529. ZYZJ Petroleum Equipment Co., Ltd.

[FR Doc. 2013-29343 Filed 12-6-13; 8:45 am]

BILLING CODE 3510-DS-P